DEPARTMENT OF HOUSING AND URBAN DEVELOPMENT

[Docket No. FR-6199-N-02]

Notice of HUD Vacant Loan Sales (HVLS 2020-1)

AGENCY: Office of the Assistant Secretary for Housing—Federal Housing Commissioner, HUD.

ACTION: Notice of sales of reverse mortgage loans; change of bid date.

SUMMARY: On February 25, 2020, HUD published a notice intending to competitively offer multiple residential reverse mortgage pools consisting of approximately 700 reverse mortgage notes secured by properties with a loan balance of approximately $150 million. This document identifies a change in the bid date.

DATES: This change in date is effective June 17, 2020.

FOR FURTHER INFORMATION CONTACT: John Lucey, Director, Asset Sales Office, Room 3136, Department of Housing and Urban Development, 451 7th Street SW, Room 3136, Washington, DC 20410; telephone 202-708-2625, extension 3927 (this is not a toll-free number). Persons with hearing or speech impairments may access this number through TTY by calling the toll-free Federal Relay at 800-877-8339 (this is a toll-free number).

SUPPLEMENTARY INFORMATION: On February 25, 2020, HUD announced its intention to competitively offer multiple residential reverse mortgage pools consisting of approximately 700 reverse mortgage notes secured by properties with a loan balance of approximately $150 million on March 18, 2020.¹ The sale was to consist of due and payable Secretary-held reverse mortgage loans. The mortgage loans consist of first liens secured by single family, vacant residential properties, where all borrowers are deceased, and no borrower is survived by a non-borrowing spouse. That notice also generally described the bidding process for the sale and certain persons who are ineligible to bid.

¹ See 85 FR 10711 (Feb. 25, 2020).

Due to the COVID-19 pandemic, HUD did not proceed with the offer. This notice informs the public that HUD's offering of multiple residential reverse mortgage pools consisting of approximately 700 reverse mortgage notes will now be held on June 24, 2020. A detailed description of the bidding process can be found in the February 25, 2020 notice at 85 FR 10711, available at https://www.govinfo.gov/content/pkg/FR-2020-02-25/pdf/2020-03743.pdf.

Dated: June 11, 2020.
John L. Garvin,
General Deputy Assistant Secretary for Housing.

[FR Doc. 2020-12990 Filed 6-16-20; 8:45 am]

BILLING CODE 4210-67-P